DEPARTMENT OF VETERANS AFFAIRS

[OMB Control No. 2900-0911]

Agency Information Collection Activity Under OMB Review: Suicide Prevention 2.0 Program—Community Opinion Survey

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent by October 17, 2025.

ADDRESSES: To submit comments and recommendations for the proposed information collection, please type the following link into your browser: www.reginfo.gov/public/do/PRAMain, select “Currently under Review—Open for Public Comments”, then search the list for the information collection by Title or “OMB Control No. 2900-0911.”

FOR FURTHER INFORMATION CONTACT:

VA PRA information: Dorothy Glasgow, 202-461-1084, VAPRA@va.gov.

SUPPLEMENTARY INFORMATION:

Title: Suicide Prevention 2.0 Program—Community Opinion Survey.

OMB Control Number: 2900-0911. https://www.reginfo.gov/public/do/PRASearch.

Type of Review: Reinstatement with change of a previously approved collection.

Abstract: Legal authority for this data collection is found in 38 U.S.C., Part I, Chapter 5, Section 527, which authorizes the collection of data that will allow measurement and evaluation of Department of Veterans Affairs (VA) Programs, the goal of which is improved health care for Veterans. The purpose of the Community Opinion Survey (COS) is to evaluate the impact of Community-Based Intervention (CBI) programs, including the Governor's Challenge (GC), on the population.

The information will be used to accomplish three aims: (1) collect baseline data on the knowledge and attitudes of adult US citizens living in specified communities about Veterans, Veteran suicide, and resources available to Veterans to reduce suicide, prior to the implementation of suicide prevention programs; (2) collect follow-up data in the same communities to assess whether knowledge and attitudes have changed over time; and (3) determine whether the programs and policies implemented by a community resulted in positive change in knowledge and attitudes.

The data will be utilized by the Office of Suicide Prevention in VA Central Office to measure the return on investment of significant resources that have been invested to support communities in their efforts to reduce Veteran suicide. The CBI arm of VA's “Suicide Prevention 2.0” (SP2.0) program has launched two initiatives whose goals are to increase the successful implementation of best practices to prevent Veteran suicide in local communities. The data collected will allow VA to measure a baseline level of expected outcomes, follow-up levels, and explore the role of new programs in any changes, as well as inform program planning and evaluation.

The GC is one of the initiatives supported by SP2.0 and is structured so that State teams are provided training and technical assistance by VA to expand their efforts to implement suicide prevention programs in their State. This data collection will assist the State teams in assessing the effects of their new programming or activities. To date, 55 states and territories have accepted the GC Initiative, and VA will administer the COS in every participating state and territory. The increase in the number of respondents and burden hours since the last PRA clearance is due to the survey being administered for completion of Time 2 data in the first 22 states and for Time 1 and Time 2 data in the remaining 33 states and territories

An agency may not conduct or sponsor, and a person is not required to respond to a collection of information unless it displays a currently valid OMB control number. The Federal Register Notice with a 60-day comment period soliciting comments on this collection of information was published at 90 FR 28866, July 1, 2025.

Affected Public: Individuals or Households.

Estimated Annual Burden: 11,000 hours.

Estimated Average Burden per Respondent: 15 minutes.

Frequency of Response: Once annually.

Estimated Number of Respondents: 44,000.

Authority: 44 U.S.C. 3501 et seq.

Dorothy Glasgow,
Acting, VA PRA Clearance Officer, Office of Enterprise and Integration, Data Governance Analytics, Department of Veterans Affairs.

[FR Doc. 2025-17987 Filed 9-16-25; 8:45 am]

BILLING CODE 8320-01-P